DEPARTMENT OF THE INTERIOR

Minerals Management Service

Notice on Outer Continental Shelf Oil and Gas Lease Sales

AGENCY: Minerals Management Service, Interior.

ACTION: List of restricted joint bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period May 1, 2003, through October 31, 2003. The List of Restricted Joint Bidders published October 31, 2002, in the Federal Register at 67 FR 66416 covered the period November 1, 2002, through April 30, 2003.

Group I. Exxon Mobil Company

ExxonMobil Exploration Corporation.

Group II. Shell Oil Company

SWEPILP.

Shell Frontier Oil and Gas Inc.

Shell Consolidated Energy Resources Inc.

Shell Land and Energy Company.

Shell Onshore Ventures Inc.

Shell Offshore Properties and Capital II, Inc.

Shell Rocky Mountain Production LLC.

Shell Gulf of Mexico Inc.

Group III. BP America Production Company

Amoco Production Company.

BP Exploration and Production Inc.

BP Exploration (Alaska) Inc.

Group IV. TotalFinaElf E&P USA, Inc.

Group V. ChevronTexaco Corporation

Chevron U.S.A. Inc.

Texaco Exploration and Production Inc.

Texaco Production Inc.

Dated: March 21, 2003.
Johnnie Burton,
Director, Minerals Management Service.

[FR Doc. 03-8923 Filed 4-10-03; 8:45 am]

BILLING CODE 4310-MR-P